ENVIRONMENTAL PROTECTION AGENCY

[FRL-12302-01-R5]

Charter Renewal for the Great Lakes Advisory Board

AGENCY: Environmental Protection Agency (EPA).

ACTION: Notice of charter renewal for the Great Lakes Advisory Board.

SUMMARY: Notice is hereby given that the Environmental Protection Agency (EPA) has determined that, in accordance with the provisions of the Federal Advisory Committee Act (FACA), the EPA Great Lakes Advisory Board is a necessary committee which is in the public's interest. Accordingly, the Advisory Board will be renewed for an additional two-year period. The purpose of the Advisory Board is to provide advice and recommendations to the EPA Administrator through the Great Lakes National Program Manager on matters related to the Great Lakes Restoration Initiative and on domestic matters related to the implementation of the Great Lakes Water Quality Agreement. The Advisory Board's major objectives are to provide advice and recommendations on: Great Lakes protection and restoration activities; long term goals, objectives and priorities for Great Lakes protection and restoration; and other issues identified by the Great Lakes Interagency Task Force/Regional Working Group.

FOR FURTHER INFORMATION CONTACT: Alana Davicino, Designated Federal Officer, Great Lakes National Program Office, U.S. Environmental Protection Agency, 77 West Jackson Boulevard, (G-9J), Chicago, Illinois; telephone number: 312-886-2307, email address: davicino.alana@epa.gov.

Dated: November 5, 2024.
Debra Shore,
Regional Administrator, Region 5.

[FR Doc. 2024-26116 Filed 11-8-24; 8:45 am]

BILLING CODE 6560-50-P